DEPARTMENT OF HEALTH AND HUMAN SERVICES

Administration for Children and Families

Proposed Information Collection Activity; Comment Request

Proposed Projects

Title: Native Language Preservation and Maintenance Grant Application Template Pilot.

OMB No.: New.

Description: Based on feedback from grantees and TA providers, ANA became aware of the fact that many applicants face considerable challenges attempting to respond to Funding Opportunity Announcements (FOAs) to apply for grant funding. In particular, many applicants are overwhelmed by the volume of information in the FOAs, have trouble discerning what information is being requested, and find it difficult to structure the application narratives required by the FOAs.

The proposed Electronic Grant Application Template is intended to be made part of the Grant Application Package through Grants.gov, the OMB-designated government-wide Web site for finding and applying for Federal financial assistance. The Grant Application Template is proposed to be piloted as a consolidated and streamlined pre-formatted electronic application form that is user-friendly and has an interactive interface providing structure and clarity for applicants. The proposed Grant Application Template is not intended to replace the FOA which will still function as the full text of all funding opportunities for which applications are sought and considered by the Administration for Native Americans.

The proposed Grant Application Template will be used in a pilot capacity in just one Administration for Native Americans' discretionary program areas: Native American Language Preservation and Maintenance. All applicants applying for funding in that program area will be required to use the Application Template during the pilot competition proposed for FY16 unless they request and receive approval to submit a paper application. By using the Grant Application Template, no applicant will be required to provide any information beyond what is already required by the FOA. Additionally, free training and technical assistance will be available to all applicants on use of the Template. ANA intends to use the project proposals submitted via the Grant Application Template to make funding decisions for Native American Language Preservation and Maintenance grant awards made in the FY 2016 pilot year. In addition, ANA will solicit feedback from applicants and panel reviewers to obtain feedback on the results, outcomes, and their recommendations regarding the Grant Application Template as a user friendly method of applying for funding opportunities. If the pilot is successful in making it easier for applicants to apply, ANA will consider potentially expanding use of the Template to all Administration for Native Americans `discretionary funding areas in subsequent years.

Respondents: Applicants responding to Native Language Preservation and Maintenance FY 2016 Funding Opportunity Announcement.

Annual Burden Estimates
Instrument | Number of respondents | Number of responses per respondent | Average burden hours per response | Total burden hours
Native Language Preservation and Maintenance Application Template | 40 | 28 | .50 | 560

Estimated Total Annual Burden Hours: 560.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2015-12695 Filed 5-26-15; 8:45 am]

BILLING CODE 4184-01-P